NATIONAL ARCHIVES AND RECORDS ADMINISTRATION

[NARA-2024-049]

Records Management; General Records Schedule (GRS); GRS Transmittal 36

AGENCY: National Archives and Records Administration (NARA).

ACTION: Notice of new General Records Schedule (GRS) Transmittal 36.

SUMMARY: NARA is issuing revisions to the General Records Schedule (GRS). The GRS provides mandatory disposition instructions for records common to several or all Federal agencies. Transmittal 36 includes only changes we have made to the GRS since we published Transmittal 35 in June 2024. All other GRS remain in effect.

DATES: This transmittal is effective August 16, 2024.

ADDRESSES: You can find all GRS schedules and FAQs at http://www.archives.gov/records-mgmt/grs.html (in Word, PDF, and CSV formats). You can download the complete current GRS, in PDF format, from the same location.

FOR FURTHER INFORMATION CONTACT: For more information about this notice or to obtain paper copies of the GRS, contact Eddie Germino, Regulatory and External Policy Program Manager, by email at regulation_comments@nara.gov or by telephone at 301.837.3758.

Writing and maintaining the GRS is the GRS Team's responsibility. This team is part of Records Management Operations in the Office of the Chief Records Officer, at NARA. You may contact NARA's GRS Team with general questions about the GRS at GRS_Team@nara.gov.

Your agency's records officer may contact the NARA appraiser with whom your agency normally works for support in carrying out this transmittal and the revised portions of the GRS. You may access a list of appraisal and scheduling contacts on our website at https://www.archives.gov/records-mgmt/appraisal/work-group-all.html.

SUPPLEMENTARY INFORMATION: GRS Transmittal 36 announces changes to the General Records Schedules (GRS) made since NARA published GRS Transmittal 35 in June 2024. The GRS provide mandatory disposition instructions for records common to several or all Federal agencies.

As with the past few transmittals, this transmittal publishes only those schedules that are new or have changed since they were last published in a transmittal. Other schedules not published in this transmittal remain current and authoritative. You can find all schedules (in Word and PDF formats), general GRS FAQs, and schedule specific FAQs at http://www.archives.gov/records-mgmt/grs.html.

1. What changes does this transmittal make to the GRS?

GRS Transmittal 36 adds one new schedule: GRS 6.7: Special Collections Required by Statute. This schedule provides disposition authority necessary to allow agencies to transfer records to NARA in the Electronic Records Archive (ERA) as required by specific statutes. Examples of these statutes include the Civil Rights Cold Case Records Collection Act of 2018 (Pub. L. 115-426) and the 2024 National Defense Authorization Act: Unidentified Anomalous Phenomena Collection (Pub. L. 118-31, sections 1841-1843). The schedule only covers these special collections of records and not the original records that the agency continues to maintain.

2. How do agencies cite GRS items when communicating with NARA?

Cite the “DAA” number in the “Disposition Authority” column of the GRS table when transferring records to Federal Records Centers or to NARA for accessioning, or when requesting GRS deviations on record schedules. For example, use “DAA-GRS-2017-0007-0008” rather than “GRS 2.2, item 070.” A GRS Disposition Authority Look-Up Table is available on our website at https://www.archives.gov/records-mgmt/grs.html.

3. Do agencies have to take any action to implement these GRS changes?

This new schedule is not something that agencies will use on a regular basis and it is unlikely that an agency would need to incorporate it into agency file plans or records management systems. This schedule is for use by agency records management programs to fulfill statutory requirements when they exist.

4. How can an agency get copies of the new GRS?

You can download the complete current GRS, in PDF format, from NARA's website at http://www.archives.gov/records-mgmt/grs.html.

5. Whom should an agency contact for further information?

Please contact GRS_Team@nara.gov with any questions related to this transmittal.

Colleen J. Shogan,
Archivist of the United States.

[FR Doc. 2024-18393 Filed 8-15-24; 8:45 am]

BILLING CODE 7515-01-P